DEPARTMENT OF TRANSPORTATION

Federal Motor Carrier Safety Administration

49 CFR Part 392

[Docket No. FMCSA-2015-0396]

RIN 2126-AB87

Driving of Commercial Motor Vehicles: Use of Seat Belts; Correction

AGENCY: Federal Motor Carrier Safety Administration, DOT.

ACTION: Final rule; correction.

SUMMARY: FMCSA corrects an error in its June 7, 2016, final rule “Driving of Commercial Motor Vehicles: Use of Seat Belts.” The amendatory language in the final rule inadvertently limited the applicability of the requirement for drivers to use their seat belts to operators of property-carrying vehicles. Today's correction fixes the error such that drivers of passenger-carrying vehicles will continue to be required to wear their seat belts.

DATES: Effective August 8, 2016.

FOR FURTHER INFORMATION CONTACT: Charles A. Horan, Director; Carrier, Driver, and Vehicle Safety Standards, Office of Policy, Federal Motor Carrier Safety Administration, 1200 New Jersey Avenue SE., Washington, DC 20590-0001 or by telephone at (202) 366-5370.

SUPPLEMENTARY INFORMATION: The Federal Motor Carrier Safety Administration published a document in the Federal Register of June 7, 2016 (81 FR 36474). In FR Doc. 2016-13099, published in the Federal Register of June 7, 2016, (81 FR 36474), § 392.16(a) was amended to inadvertently include the phrase “property-carrying.” This correction removes the phrase “property-carrying.”.

§ 392.16 [Corrected]

In rule FR Doc. 2016-13099, published on June 7, 2016 (81 FR 36474) make the following correction. On page 36479, in the third column, remove the words “property-carrying” from where it appears twice in paragraph (a) of § 392.16.

Issued on: June 28, 2016.
Larry W. Minor,
Associate Administrator for Policy.

[FR Doc. 2016-15941 Filed 7-5-16; 8:45 am]

BILLING CODE 4910-EX-P